SECURITIES AND EXCHANGE COMMISSION

[SEC File No. 270-298, OMB Control No. 3235-0337]

Submission for OMB Review; Comment Request; Extension: Rule 17Ac2-2 and Form TA-2

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) has submitted to the Office of Management and Budget (“OMB”) a request for approval of the existing collection of information provided for in Rule 17Ac2-2 (17 CFR 240.17Ac2-2) and Form TA-2 under the Securities Exchange Act of 1934 (15 U.S.C. 78a et seq.) (“Exchange Act”).

Rule 17Ac2-2 and Form TA-2 under the Exchange Act require transfer agents to file an annual report of their business activities with the Commission. These reporting requirements are designed to ensure that all registered transfer agents are providing the Commission with sufficient information on an annual basis about the transfer agent community and to permit the Commission to effectively monitor business activities of transfer agents.

The amount of time needed to comply with the requirements of amended Rule 17Ac2-2 and Form TA-2 varies. Of the total 315 registered transfer agents, approximately 9.2% (or 29 registrants) would be required to complete only questions 1 through 3 and the signature section of amended Form TA-2, which the Commission estimates would take each registrant approximately 30 minutes, for a total burden of 15 hours (29 × .5 hours = 14.5 rounded up to 15). Approximately 26.5% of registrants (or 84 registrants) would be required to answer questions 1 through 5, question 11, and the signature section, which the Commission estimates would take approximately 1 hour and 30 minutes, for a total burden of 126 hours (84 × 1.5 hours). Approximately 64.2% of the registrants (or 203 registrants) would be required to complete the entire Form TA-2, which the Commission estimates would take approximately 6 hours, for a total burden of 1,218 hours (203 × 6 hours). The aggregate annual burden on all 315 registered transfer agents is thus approximately 1,359 hours (15 hours + 126 hours + 1,218 hours) and the average annual burden per transfer agent is approximately 4.314 hours (1,359 ÷ 315).

This rule does not involve the collection of confidential information.

An agency may not conduct or sponsor, and a person is not required to respond to, a collection of information under the PRA unless it displays a currently valid OMB control number.

The public may view and comment on this information collection request at: https://www.reginfo.gov/public/do/PRAViewICR?ref_nbr=202410-3235-013 or send an email comment to MBX.OMB.OIRA.SEC_desk_officer@omb.eop.gov within 30 days of the day after publication of this notice by January 21, 2025.

Dated: January 3, 2025.
J. Matthew DeLesDernier,
Deputy Secretary.

[FR Doc. 2025-00250 Filed 1-8-25; 8:45 am]

BILLING CODE 8011-01-P